DEPARTMENT OF ENERGY

Federal Energy Regulatory Commission

[Docket No. OR00-6-000]

Chevron Pipeline Company; Notice of Request for Protective Order and for Limited Waiver of 18 CFR 348.2(e)

June 27, 2000.

Take notice that on June 13, 2000, pursuant to 18 CFR part 348, Chevron Pipeline Company (Chevron) filed an application for authority to charge market-based rates on its two pipeline systems originating in El Paso, Texas. Pursuant to 18 CFR 388.112, Chevron requests confidential treatment of certain information contained in its application. Chevron states that the only information for which it is requesting confidential treatment is shipper information that Chevron is required by law not to disclose pursuant to Section 15(13) of the Interstate Commerce Act (ICA). Chevron maintains that it is not requesting confidential treatment of any of its own business information at this time. In addition, Chevron requests the expedited issuance of a protective order and limited waiver of 18 CFR 348.2(e)—until the Commission issues the requested protective order—to govern the provision of the application containing the confidential information to other parties.

According to Chevron, the proposed protective order encompasses both the provision of the confidential version of the application prior to any entity becoming a participant in this proceeding and the later provision of both Section 15(13) and other confidential information among participants, should that become necessary in this proceeding. Chevron contends that the proposed protective order limits access to Section 15(13) information to an entity's outside counsel and consultants.

Any person desiring to comment or protest this request for a protective order and limited waiver should file the comment or protest with the Federal Energy Regulatory Commission, 888 First Street, NE., Washington, DC 20426. All such comments or protests must be filed by July 7, 2000. Comments or protests will be considered by the Commission in determining the appropriate action to be taken, but will not make the person filing a party to the proceeding. Copies of this filing, including the request for a protective order are on file with the Commission and are available for public inspection in the Public Reference Room. This filing may be viewed on the web at http://www.ferc.fed.us/online/rims.htm (call 202-208-2222 for assistance).

Linwood A. Watson, Jr.,
Acting Secretary.

[FR Doc. 00-16702 Filed 6-30-00; 8:45 am]

BILLING CODE 6717-01-M